ENVIRONMENTAL PROTECTION AGENCY

40 CFR Part 300

[EPA-HQ-SFUND-1983-0002; FRL-9964-55-Region-7]

National Oil and Hazardous Substances Pollution Contingency Plan; National Priorities List: Partial Deletion of the Ellisville Superfund Site

AGENCY: Environmental Protection Agency (EPA).

ACTION: Final rule.

SUMMARY: The Environmental Protection Agency (EPA) Region 7 announces the deletion of the Callahan property, Operable Unit 3(OU3) (Parcel ID 22U220242) of the Ellisville Superfund Site (Site) located in Wildwood, Missouri (E½, NW¼, SE¼, S31, T45N, R04E), from the National Priorities List (NPL). The NPL, promulgated pursuant to section 105 of the Comprehensive Environmental Response, Compensation, and Liability Act (CERCLA) of 1980, as amended, is an appendix of the National Oil and Hazardous Substances Pollution Contingency Plan (NCP). This partial deletion pertains to all media (soil and groundwater) of the Callahan property, (OU3) Subsite. The Bliss (OU2) and Rosalie (OU1) operable units will remain on the NPL and are not being considered for deletion as part of this action. The EPA and the State of Missouri, through the Missouri Department of Natural Resources, have determined that all appropriate response actions under CERCLA, have been completed. However, the deletion of this parcel does not preclude future actions under Superfund.

DATES: This action is effective July 17, 2017.

ADDRESSES: EPA has established a docket for this action under Docket Identification No. EPA-HQ-SFUND-1983-0002. All documents in the docket are listed on the https://www.regulations.gov Web site. Although listed in the index, some information is not publicly available, i.e., Confidential Business Information or other information whose disclosure is restricted by statute. Certain other material, such as copyrighted material, is not placed on the Internet and will be publicly available only in hard copy form. Publicly available docket materials are available either electronically through https://www.regulations.gov or in hard copy at the site information repositories. The locations and viewing hours of the site information repositories are:

The Region 7 Records Center, 11201 Renner Boulevard, Lenexa, KS open from 8 a.m. to 4 p.m. Monday-Friday and the Daniel Boone Branch Library, 300 Clarkson Road, Ellisville, MO open from 9 a.m. to 9 p.m. Monday-Thursday, 9 a.m. to 5 p.m. Friday and Saturday, and 1 p.m. to 5 a.m. on Sunday.

FOR FURTHER INFORMATION CONTACT: Laura Price, Remedial Project Manager, U.S. Environmental Protection Agency, Region 7, Environmental Protection Agency, 11201 Renner Boulevard, Lenexa, Kansas 66219, email: price.laura@epa.gov or telephone: 913-551-7130.

SUPPLEMENTARY INFORMATION: The portion of the site to be deleted from the NPL is: Callahan property, OU3 of the Ellisville Superfund Site, Wildwood, Missouri. A Notice of Intent for Partial Deletion for this Site was published in the Federal Register (81 FR 14813) on March 18, 2016.

The original closing date for comments on the Notice of Intent for Partial Deletion was April 18, 2016. However, the EPA continued to accept public comments at the request of the City of Wildwood until May 18, 2016. Twenty-five public comments were received and the public concerns expressed in the comments were: Public health risks that may still remain at the subsite, additional time to observe the subsite for possible long-term effects, future construction at the subsite will disturb contaminants left at the site, dioxin and polychlorinated biphenyls (PCBs) contaminants were not evaluated or were being left in place, groundwater was not evaluated, vapor intrusion issues were not evaluated, and that five year reviews should be conducted at the subsite. The EPA removed all contaminated soil down to bedrock at the Callahan subsite then collected confirmation samples on the sidewalls to confirm that clean-up was achieved both vertically and laterally. EPA considers that all contaminants of concern in the site soils above clean-up criteria were removed from the Callahan subsite. Therefore, there is not contamination to disturb through future construction. PCBs and dioxin were not detected above clean-up criteria and are not considered contaminants of concern at the Callahan subsite. The EPA conducted a groundwater investigation at the property where three wells were installed then sampled. All groundwater samples at the Callahan subsite were non-detect for contaminants of concern. Indoor air sampling was not conducted at residential homes near the Callahan subsite since all impacted soil was removed from the site and the groundwater is not impacted with contamination. The EPA considers there is no pathway for vapor intrusion. The EPA determined all threats to public health and the environment requiring action have been addressed and that the Callahan subsite meets the criteria for unlimited use/unrestricted exposure (UU/UE). Since the Callahan subsite meets UU/UE requirements a five-year review is not required for the Callahan subsite. Based on an evaluation of all requirements under 40 CFR 300.425(e) and 60 FR 55466-55467, the EPA concluded that the Callahan subsite could and should be deleted from the NPL. A responsiveness summary was prepared and placed in both the docket, EPA-HQ-SFUND-1983-0002, on www.regulations.gov, and in the local repositories listed above.

The EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Dated: June 12, 2017.
Edward H. Chu,
Acting Regional Administrator, Region 7.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by revising the entry “MO”, “Ellisville Site”, “Ellisville” to read as follows:

Appendix B to Part 300—National Priorities List

Table 1—General Superfund Section
State | Site name | City/county | Notes (a)
* * * * * * *
MO | Ellisville Site | Ellisville | P
* * * * * * *
(a) = Based on issuance of health advisory by Agency for Toxic Substances and Disease Registry (if scored, HRS score need not be greater than or equal to 28.50).
* * * * * * *
P = Sites with partial deletion(s).

* * * * *

[FR Doc. 2017-14831 Filed 7-14-17; 8:45 am]

BILLING CODE 6560-50-P